DEPARTMENT OF JUSTICE

Notice of Lodging of Consent Decree Under the Comprehensive Environmental Response, Compensation and Liability Act (CERCLA)

Under section 122(d)(2) of CERCLA, 42 U.S.C. 9622(d)(2), and 28 CFR 50.7, notice is hereby given that on January 9, 2002, a proposed Consent Decree in two consolidated cases, United States v. Allied Battery Co., Civil No. CV-98-N-0446-S, and United States v. CSX Transportation, Inc., CV-98-N-2561-S, was lodged with the United States District Court for the Northern District of Alabama.

The United States' Complaints in these actions seek recovery of over $2.1 million in costs incurred by the United States Environmental Protection Agency in conducting a soil cleanup removal action at the Carlie Lee Superfund Site near Birmingham, Alabama. The United States filed its Complaints pursuant to section 107(a) of the Comprehensive Environmental Response, Compensation and Liability Act (“CERCLA”), 42 U.S.C. 9607(a).

The proposed Consent Decree contains a settlement with the remaining Defendants, two Third-party Defendants, and two federal agencies. The Settling Defendants and Third-party Defendants are CSX Transportation, Lucent Technologies, Thompson Tractor Company, BellSouth Corporation, BellSouth Telecommunications, Inc., and Jefferson County, Alabama. The settling federal agencies are the U.S. Department of Defense, including the Defense Reutilization and Marketing Service (“DRMS”). Under the proposed Consent Decree, the settlors collectively agree to pay a total of $978,214.68. The settling Defendants and Third-party Defendants have agreed to pay a total of $608,666.91. The settling federal agencies have agreed to pay $369,547.75.

The Department of Justice will receive comment relating to the proposed Consent Decree for a period of thirty (30) days from the date of this publication. As a result of the discovery of anthrax contamination at the District of Columbia mail processing center in mid-October, 2001, the delivery of regular first-class mail sent through the U.S. Postal Service has been disrupted. Consequently, public comments which are addressed to the Department of Justice in Washington, D.C. and sent by regular, first-class mail through the U.S. Postal Service are not expected to be received in timely manner. Therefore, comments should be addressed to the Assistant Attorney General, Environment and Natural Resources Division, Department of Justice, and sent: (1) By regular, first-class mail through the U.S. Postal Service, c/o Karen Singer, U.S. Environmental Protection Agency, Region 4, EAD, 61 Forsyth Street, S.E., Atlanta, Georgia, 30303; and/or (2) by facsimile to (202) 353-0296; and/or (3) by overnight delivery, other than through the U.S. Postal Service, to Chief, Environmental Enforcement Section, 1425 New York Avenue, NW, 13th Floor, Washington, DC 20005.

Each communication should refer on its face the U.S. v. CSX Transp., CV98-N-2561-S, and D.J. Ref. 90-11-3-1758/1.

The proposed Consent Decree may be examined at the office of the United States Attorney for the Northern District of Alabama, 200 Fed. Bldg., 1800 Fifth Avenue North, Room 200, Birmingham, Alabama, and also at the Region 4 Office of the Environmental Protection Agency, Region 4, 61 Forsyth Street, SE., Atlanta, Georgia.

A copy of the proposed Consent Decree may also be obtained by faxing a request to Tonia Fleetwood, Department of Justice Consent Decree Library, fax no. (202) 616-6584; phone confirmation no. (202) 514-1547.

There is a charge for the copy (25 cents per page reproduction cost). Upon requesting a copy, please mail a check payable to the “U.S. Treasury” in the amount of $7.00, to: Consent Decree Library, U.S. Department of Justice, P.O. Box 7611, Washington, DC 20044-7611. The check should refer to U.S. v. CSX Transp., D.J. No. 90-11-3-1758/1.

Ellen M. Mahan,
Assistant Section Chief, Environmental Enforcement Section.

[FR Doc. 02-4433 Filed 2-22-02; 8:45 am]

BILLING CODE 4410-15-M